DEPARTMENT OF STATE

Bureau of Nonproliferation

[Public Notice 4677]

Lifting of Nonproliferation Measures Against Four Russian Entities

SUMMARY: A determination has been made, pursuant to Section 6 of Executive Order 12938 of November 14, 1994, as amended by Executive Order 13094 of July 28, 1998, to remove nonproliferation measures on four Russian entities.

EFFECTIVE DATE: April 1, 2004.

FOR FURTHER INFORMATION CONTACT: Vann H. Van Diepen, Office of Chemical, Biological and Missile Nonproliferation, Bureau of Nonproliferation, Department of State (202-647-1142).

SUPPLEMENTARY INFORMATION: Pursuant to the authorities vested in the President by the Constitution and the laws of the United States of America, including the International Emergency Economic Powers Act (50 U.S.C. 1701 et seq.) (“IEEPA”), the National Emergencies Act (50 U.S.C. 1601 et seq.), the Arms Export Control Act (22 U.S.C. 2751 et seq.), and section 301 of title 3, United States Code, and Section 6 of Executive Order 12938 of November 14, 1994, as amended, a determination was made on March 23, 2004, that it is in the foreign policy and national security interests of the United States to remove the restrictions imposed pursuant to Sections 4(b), 4(c), and 4(d) of the Executive Order on the following Russian entities, their sub-units and successors:

1. Europalace 2000

2. Grafit (aka State Scientific Research Institute of Graphite or NIIGRAFIT)

3. MOSO Company

4. The Scientific Research and Design Institute of Power Technology (aka NIKIET, Research and Development Institute of Power Engineering (RDIPE), and ENTEK).

These restrictions were imposed on the first three entities on July 30, 1998 (see 63 FR 42089) and on the fourth entity on January 8, 1999 (see 64 FR 2935).

Dated: March 24, 2004.
John S. Wolf,
Assistant Secretary of State for Nonproliferation, Department of State.

[FR Doc. 04-7341 Filed 3-31-04; 8:45 am]

BILLING CODE 4710-25-P